DEPARTMENT OF HEALTH AND HUMAN SERVICES

Centers for Disease Control and Prevention

[Program Announcement 02097]

Hemophilia Prevention Education and Peer Support; Notice of Availability of Funds

A. Purpose

The Centers for Disease Control and Prevention (CDC) announces the availability of fiscal year (FY) 2002 funds for a cooperative agreement program for Hemophilia Prevention Education and Peer Support. This program addresses the “Healthy People 2010” focus area(s) of Disability and Secondary Conditions, HIV, Immunization and Infectious Diseases, and Educational and Community-Based Programs.

The purpose of the program is to enhance public health prevention practices for persons with bleeding disorders by: (1) Promoting peer-led prevention education, intervention and outreach activities; (2) developing and implementing programs that educate and encourage persons with bleeding disorders to make informed decisions regarding healthcare practices and to adopt behaviors that reduce or eliminate bleeding disorder complications; (3) promoting the professional development of health care providers by encouraging collaboration between providers and persons with bleeding disorders to enhance prevention efforts; and (4) disseminating prevention and intervention information and education materials to the bleeding disorders community.

B. Eligible Applicants

Applications may be submitted by public and private non-profit organizations and by governments and their agencies; that is, universities, colleges, research institutions, hospitals, other public and private non-profit organizations, State and local governments or their bona fide agents, including the District of Columbia, the Commonwealth of Puerto Rico, the Virgin Islands, the Commonwealth of the Northern Mariana Islands, American Samoa, Guam, the Federated States of Micronesia, the Republic of the Marshall Islands, and the Republic of Palau, federally recognized Indian tribal governments, Indian tribes, or Indian tribal organizations. Faith-based organizations are eligible for this award.

Note: Title II of the United States Code section 1611 states that an organization described in section 501(c)(4) of the Internal Revenue Code that engages in lobbying activities is not eligible to receive Federal funds constituting an award, grant or loan.

C. Availability of Funds

Approximately $2,800,000 is available in FY 2002 to fund one award. It is expected that the award will begin on or about September 30, 2002 and will be made for a 12-month budget period within a project period of up to five years. The funding estimate may change.

Continuation awards within an approved project period will be on the basis of satisfactory progress as evidenced by required reports and the availability of funds.

Funding Preference

A funding preference may be given to the current recipient because they can demonstrate experience in conducting, developing, and evaluating peer led prevention interventions and national programs. They have effective and well-defined working relationships with partnering communities (including local consumer organizations and hemophilia treatment centers).

D. Program Requirements

In conducting activities to achieve the purpose of this program, the recipient will be responsible for the activities under 1. (Recipient Activities) and CDC will be responsible for the activities listed under 2. (CDC Activities).

1. Recipient Activities

a. Collaborate with consumers and hemophilia care providers to develop user-centered educational programs and materials aimed at reducing or eliminating complications of bleeding disorders.

b. Evaluate the effectiveness of education programs and materials, identify gaps, and propose strategies to improve the quality and availability of educational resources and prevention information.

c. Develop strategies to increase collaboration between local community based organizations and hemophilia treatment centers (HTCs) to enhance prevention programs.

d. Maintain a comprehensive information clearinghouse for consumers and hemophilia care providers to disseminate information on health promotion, and prevention of complications for persons with bleeding disorders.

e. Coordinate a model demonstration project by developing education programs, communication strategies/methods, and outcome measures to deliver prevention messages aimed at helping individuals make informed decisions regarding their care and adapting behaviors to prevent the complications associated with bleeding disorders. This project should be evaluated by assessing outcome measures, and yield a data bank of effective programs that can be duplicated and disseminated for use in local settings.

f. Expand and enhance peer-based prevention and educational activities by supporting programs at the local level. Provide technical assistance and financial support for program planning, development, implementation, and evaluation of public health education for local peer-led activities to deliver prevention messages.

g. Provide opportunities for hemophilia care providers to receive prevention information and training. Collaborate with current hemophilia care providers to develop orientation training for new providers.

h. Promote programs for early diagnosis and management of women with bleeding disorders.

i. Collaborate with community-based hemophilia organizations to develop, implement, and evaluate outreach initiatives to increase access to healthcare and prevention services for under served groups with bleeding disorders.

j. Encourage the use of appropriate safety precautions to prevent the transmission of blood borne pathogens. Participate in a formal communication network with CDC, and other Federal agencies to address blood safety and availability issues when necessary. Encourage people with bleeding disorders to participate in blood safety monitoring efforts.

2. CDC Activities

a. Provide scientific and public health information regarding the prevention of complications of hemophilia, and other bleeding disorders. This includes reviewing educational and promotional materials developed by the proposed program.

b. Provide consultation and technical assistance for program planning, development, implementation, and evaluation, which may include consulting with committees or working groups whose operations may impact the proposed programs.

c. Collaborate in the presentation, publication, and dissemination of information resulting from these activities.

d. Facilitate provider involvement and collaboration in consumer-based program activities between the recipient and the Regional HTC Programs.

e. Assist in the development of a research protocol for Institutional Review Board (IRB) review by all cooperating institutions participating in the research project. The CDC IRB will review and approve the protocol initially and on at least an annual basis until the research project is completed.

E. Content

Letter of Intent (LOI)

An LOI is optional for this program. The narrative should be no more than three single-spaced pages, printed on one side, with one-inch margins, and unreduced font. Your letter of intent will be used to enable CDC to plan for the review, and should include the following information (1) the Program Announcement Number 02097, (2) name and address of institution, and (3) name, address, and telephone number of contact person. Notification can be provided by facsimile, postal mail, or electronic mail (E-mail).

Applications

Use the information in the Program Requirements, Other Requirements, and Evaluation Criteria sections to develop the application content. Your application will be evaluated on the criteria listed, so it is important to follow them in laying out your program plan. The narrative should be no more than 25 double-spaced pages, printed on one side, with one-inch margins, and unreduced font.

The application should include:

1. Understanding of the Project

Describe the need for prevention information and education programs for the target population. Explain the basis for providing such programs, expected outcomes and the relevance to preventing complications, and promoting healthy behaviors among people with bleeding disorders.

2. Objectives

Establish long-range (five year) and short-term (one year) objectives for programmatic plans. Objectives should be specific, measurable, time-phased and realistic.

3. Operational Plan

Describe the methods by which the objectives will be achieved, including their sequence.

4. Evaluation Plan

Describe the plans to monitor the progress of the program, as well to evaluate the outcomes of the proposed activities.

5. Program Management

Describe the roles and responsibilities of all project staff in the proposed project. The description should include their titles, qualifications, and experience, as well as the percentage of time each will devote to the project, and the portions of their salaries to be paid by the cooperative agreement.

6. Collaboration with Local Organizations and HTCs

Describe plans to include local organizations and HTCs in the program.

7. Budget

A detailed first year's budget for the cooperative agreement with projections for the next four additional years.

F. Submission and Deadline

Letter of Intent (LOI)

On or before June 15, 2002, submit the Letter of Intent to the Grants Management Specialist identified in the “Where to Obtain Additional Information” section of this announcement.

Application

Submit the original and two copies of PHS 5161-1 (OMB Number 0920-0428). Forms are available in the application kit and at the following Internet address: www.cdc.gov/od/pgo/forminfo.htm.

On or before July 15, 2002, submit the application to: Technical Information Management—PA02097, Procurement and Grants Office, Centers for Disease Control and Prevention, 2920 Brandywine Rd. Room 3000, Atlanta, GA 30341-4146.

Deadline: Applications shall be considered as meeting the deadline if they are received on or before the deadline date.

Late: Applications which do not meet the criteria above will be returned to the applicant.

G. Evaluation Criteria

Each application will be evaluated individually against the following criteria by an independent review group appointed by CDC.

1. Understanding of the Project (15 points)

The extent to which the applicant understands the requirements, problems, objectives and complexities of the project.

2. Objectives (15 points)

The degree to which the proposed objectives are clearly stated, realistic, time-phased, and related to the purpose of the project.

3. Operational Plan (Total 25 points)

a. The extent to which the applicant provides a detailed plan of proposed activities which are likely to achieve each objective and overall program goals. The extent to which the applicant provides a reasonable and complete schedule for implementing activities of the program. (20 points)

b. The degree to which the applicant has met the CDC Policy requirements regarding the inclusion of women, ethnic, and racial groups in the proposed research. This includes (1) The proposed plan for the inclusion of both sexes and racial and ethnic minority populations for appropriate representation; (2) The proposed justification when representation is limited or absent; (3) A statement as to whether the design of the study is adequate to measure differences when warranted; and (4) A statement as to whether the plans for recruitment and outreach for study participants include the process of establishing partnerships with community(ies) and recognition of mutual benefits. (5 points)

4. Evaluation Plan (15 points)

The extent to which the proposed evaluation plan is detailed, addresses goals and objectives of the program, and will document the program process, effectiveness and outcome. The extent to which a feasible plan for reporting evaluation results and using evaluation information for programmatic decisions is present.

5. Program Management (25 total points)

a. The extent to which the applicant proposes potentially effective collaborations with local organizations and HTCs. (15 points)

b. The extent to which professional personnel proposed to be involved in this project are qualified, including evidence of past achievements appropriate to this project. (10 points)

6. Measures of Effectiveness (5 points)

The extent to which the applicant provide Measures of Effectiveness that will demonstrate the accomplishment of the various identified objectives of the grant. Are the measures objective/quantitative and do they adequately measure the intended outcome?

7. Budget (Not Scored)

The extent to which the applicant provides a detailed budget and narrative justification consistent with stated objectives and planned program activities.

8. Human Subjects (Not Scored)

Does the application adequately address the requirements of Title 45 CFR part 46 for the protection of human subjects?

H. Other Requirements

Technical Reporting Requirements

Provide CDC with original plus two copies of:

1. Semiannual progress reports.

2. Financial status report, no more than 90 days after the end of the budget period.

3. Final financial report and performance report, no more than 90 days after the end of the project period.

Send all reports to the Grants Management Specialist identified in the “Where to Obtain Additional Information” section of this announcement.

The following additional requirements are applicable to this program. For a complete description of each, see Attachment I of the announcement.

AR-1 Human Subjects Requirements

AR-2 Requirements for Inclusion of Women and Racial and Ethnic Minorities in Research

AR-5 HIV Program Review Panel Requirements

AR-10 Smoke-Free Workplace Requirements

AR-11 Healthy People 2010

AR-12 Lobbying Restrictions

AR-15 Proof of Non-Profit Status

I. Authority and Catalog of Federal Domestic Assistance Number

This program is authorized under section 301(a) [42 U.S.C. 241(a)] and 317 (k)(2) [42 U.S.C. 247b(k)(2)] of the Public Health Service Act, as amended. The Catalog of Federal Domestic Assistance number is 93.283

J. Where To Obtain Additional Information

This and other CDC announcements can be found on the CDC home page Internet address— http://www.cdc.gov. Click on “Funding” then “Grants and Cooperative Agreements.”

If you have questions after reviewing the contents of all the documents, business management technical assistance may be obtained from: Merlin Williams, Grants Management Specialist, Acquisition and Assistance, Branch B, Procurement and Grants Office, Centers for Disease Control and Prevention, 2920 Brandywine Road, Room 3000, Mailstop K-75, Atlanta, GA 30341-4146, Telephone number: 770-488-2765, E-mail address: mwilliams2@cdc.gov.

For program technical assistance, contact: Sally Crudder, Acting Deputy Chief, Hematologic Diseases Branch, National Center for Infectious Diseases, Centers for Disease Control and Prevention, 1600 Clifton Road, MS E64, Atlanta, Georgia 30333, Telephone number: 404-371-5270 or 5903, E-mail address: scrudder@cdc.gov.

Dated: April 26, 2002.
Sandra R. Manning,
CGFM, Director, Procurement and Grants Office, Centers for Disease Control and Prevention (CDC).

[FR Doc. 02-10833 Filed 5-1-02; 8:45 am]

BILLING CODE 4163-18-P